DEPARTMENT OF HEALTH AND HUMAN SERVICES

National Institutes of Health

National Institute on Drug Abuse Amended; Notice of Meeting

Notice is hereby given of a change in the meeting of the National Institute on Drug Abuse Special Emphasis Panel, December 13, 2011, 9 a.m. to December 13, 2011, 5 p.m., Embassy Suites at the Chevy Chase Pavilion, 4300 Military Road, NW., Washington, DC 20015 which was published in the Federal Register on October 20, 2011, 76; 204 FR 2011-27294.

The location of the meeting was changed to The Dupont Circle Hotel, 1500 New Hampshire Avenue NW., Washington, DC 20036. The meeting is closed to the public.

Dated: November 15, 2011.
Jennifer S. Spaeth,
Director, Office of Federal Advisory Committee Policy.

[FR Doc. 2011-30004 Filed 11-18-11; 8:45 am]

BILLING CODE 4140-01-P